DEPARTMENT OF TRANSPORTATION

Federal Aviation Administration

14 CFR Part 39

[Docket No. FAA-2025-0196; Project Identifier AD-2024-00250-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2019-12-13, which applies to all The Boeing Company Model 757 airplanes. AD 2019-12-13 requires repetitive checks of the aileron trim actuator bearing for free rotation, repetitive detailed inspections of the aileron trim actuator attachment lug for damage and cracking, and applicable on-condition actions. Since the FAA issued AD 2019-12-13, the FAA has determined that a modification must be done to address the unsafe condition. This proposed AD would continue to require the actions in AD 2019-12-13. This proposed AD would also require for certain airplanes changing the lateral control box support assembly and installing an aileron trim actuator bracket, and for certain other airplanes replacing the existing actuator lateral control fitting with an aileron trim actuator bracket, which terminates the repetitive checks and inspections. The FAA is proposing this AD to address the unsafe condition on these products.

DATES: The FAA must receive comments on this proposed AD by March 31, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0196; or in person at Docket Operations between 9 a.m. and 5 p.m., Monday through Friday, except Federal holidays. The AD docket contains this NPRM, any comments received, and other information. The street address for Docket Operations is listed above.

Material Incorporated by Reference:

• For the material identified in this proposed AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0196.

FOR FURTHER INFORMATION CONTACT: Katherine Venegas, Aviation Safety Engineer, FAA, 2200 South 216th St., Des Moines, WA 98198; phone: 562-627-5353; email: katherine.venegas@faa.gov.

SUPPLEMENTARY INFORMATION:

Comments Invited

The FAA invites you to send any written relevant data, views, or arguments about this proposal. Send your comments to an address listed under the ADDRESSES section. Include “Docket No. FAA-2025-0196; Project Identifier AD-2024-00250-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Katherine Venegas, Aviation Safety Engineer, FAA, 2200 South 216th St., Des Moines, WA 98198; phone: 562-627-5353; email: katherine.venegas@faa.gov. Any commentary that the FAA receives that is not specifically designated as CBI will be placed in the public docket for this rulemaking.

Background

The FAA issued AD 2019-12-13, Amendment 39-19668 (84 FR 30577, June 27, 2019) (AD 2019-12-13), for all Boeing 757 airplanes. AD 2019-12-13 was prompted by a report of the failure of the aileron trim actuator attachment lug. AD 2019-12-13 requires repetitive checks of the aileron trim actuator bearing for free rotation, repetitive detailed inspections of the aileron trim actuator attachment lug for damage and cracking, and applicable on-condition actions. The agency issued AD 2019-12-13 to address failure of the aileron trim actuator attachment lug and subsequent loss of feel force, wheel centering, and lateral trim, which, if not corrected, could cause over-control of the airplane and subsequent lateral pilot-induced oscillations that could adversely affect continued safe flight and landing.

Actions Since AD 2019-12-13 Was Issued

Since the FAA issued AD 2019-12-13, the FAA has determined that a modification must be done to address the unsafe condition. The preamble to AD 2019-12-13 specifies that the FAA considers that AD “interim action” and that the FAA might consider further rulemaking if a modification is developed, approved, and available. The manufacturer has since developed such a modification, which would terminate the repetitive inspections required by AD 2019-12-13.

FAA's Determination

The FAA is issuing this NPRM after determining that the unsafe condition described previously is likely to exist or develop on other products of the same type design.

Material Incorporated by Reference Under 1 CFR Part 51

The FAA reviewed Boeing Alert Requirements Bulletin 757-27A0159 RB, Revision 1, dated April 29, 2020. This material describes procedures for repetitive checks of the aileron trim actuator bearing for free rotation, repetitive detailed inspections of the aileron trim actuator attachment lug for damage or cracking, and applicable on-condition actions. On-condition actions include high frequency eddy current (HFEC) inspections of the aileron trim actuator attachment lug for cracking, repair, and replacement. This revision only adds references to AD 2019-12-13 and does not add any new actions.

The FAA also reviewed Boeing Alert Requirements Bulletin 757-27A0160 RB, dated April 1, 2024. This material specifies procedures for modifying the affected airplanes, which includes for certain airplanes changing the lateral control box support assembly (which includes doing a portable method C penetrant inspection of the machined surface of the lug for any crack, and repair as applicable) and installing an aileron trim actuator bracket, and for certain other airplanes replacing the existing actuator lateral control fitting with an aileron trim actuator bracket. Accomplishment of the modification terminates the repetitive checks and inspections specified in Boeing Alert Requirements Bulletin 757-27A0159 RB.

This proposed AD would also require Boeing Alert Requirements Bulletin 757-27A0159 RB, dated March 29, 2019, which the Director of the Federal Register approved for incorporation by reference as of July 12, 2019 (84 FR 30577, June 27, 2019).

This material is reasonably available because the interested parties have access to it through their normal course of business or by the means identified in the ADDRESSES section.

Proposed AD Requirements in This NPRM

This proposed AD would retain all of the requirements of AD 2019-12-13 and would refer to Boeing Alert Requirements Bulletin 757-27A0159 RB, Revision 1, dated April 29, 2020, as the appropriate source of service information for accomplishing the retained actions.

This proposed AD would also require doing the actions described in Boeing Alert Requirements Bulletin 757-27A0160 RB, dated April 1, 2024, above, except for any differences identified as exceptions in the regulatory text of this proposed AD.

For information on the procedures and compliance times, see this material at regulations.gov under Docket No. FAA-2025-0196.

Costs of Compliance

The FAA estimates that this AD, if adopted as proposed, would affect 460 airplanes of U.S. registry. The FAA estimates the following costs to comply with this proposed AD:

Estimated Costs
Action | Labor cost | Parts cost | Cost per product | Cost on U.S. operators
Repetitive inspections (retained actions from AD 2019-12-13) | 3 work-hours × $85 per hour = $255 per inspection cycle | $0 | $255 per inspection cycle | $117,300 per inspection cycle.
Install aileron trim actuator bracket (new proposed action) | 6 work-hours × $85 per hour = $510 | 3,820 | $4,330 | $1,991,800.
Change the lateral control box assembly for Groups 1, 4, and 5 (new proposed action) | 2 work-hours × $85 per hour = $170 | 0 | $170 | $69,020.*
* The number of airplanes in Groups 1, 4, and 5, as identified in Boeing Alert Requirements Bulletin 757-27A0160 RB, dated April 1, 2024, is estimated to be 406.

The FAA estimates the following costs to do any necessary on-condition actions that would be required based on the results of the proposed inspection. The agency has no way of determining the number of aircraft that might need these on-condition actions:

On-Condition Costs
Action | Labor cost | Parts cost | Cost per product
Replacement (retained actions from AD 2019-12-13) | 4 work-hours × $85 per hour = $340 | $17,693 | $18,033
HFEC inspection (retained actions from AD 2019-12-13) | 1 work-hour × $85 per hour = $85 | 0 | 85

The FAA has received no definitive data on which to base the cost estimates for the on-condition repair specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-12-13, Amendment 39-19668 (84 FR 30577, June 27, 2019), and

b. Adding the following new AD:

The Boeing Company: Docket No. FAA-2025-0196; Project Identifier AD-2024-00250-T.

(a) Comments Due Date

The FAA must receive comments on this airworthiness directive (AD) by March 31, 2025.

(b) Affected ADs

This AD replaces AD 2019-12-13, Amendment 39-19668 (84 FR 30577, June 27, 2019) (AD 2019-12-13).

(c) Applicability

This AD applies to all The Boeing Company Model 757-200, -200CB, -200PF, and -300 series airplanes, certificated in any category.

(d) Subject

Air Transport Association (ATA) of America Code 27, Flight controls.

(e) Unsafe Condition

This AD was prompted by a report of the failure of the aileron trim actuator attachment lug. The FAA is issuing this AD to address failure of the aileron trim actuator attachment lug and subsequent loss of feel force, wheel centering, and lateral trim. The unsafe condition, if not corrected, could cause over-control of the airplane and subsequent lateral pilot-induced oscillations, which could adversely affect continued safe flight and landing.

(f) Compliance

Comply with this AD within the compliance times specified, unless already done.

(g) Retained Required Actions, With Revised Service Information

This paragraph restates the requirements of paragraph (g) of AD 2019-12-13, with revised service information. Except as specified by paragraph (h) of this AD: At the applicable times specified in the “Compliance” paragraph of Boeing Alert Requirements Bulletin 757-27A0159 RB, Revision 1, dated April 29, 2020, do all applicable actions identified in, and in accordance with, the Accomplishment Instructions of Boeing Alert Requirements Bulletin 757-27A0159 RB, dated March 29, 2019, or Boeing Alert Requirements Bulletin 757-27A0159 RB, Revision 1, dated April 29, 2020. As of the effective date of this AD, only use Boeing Alert Requirements Bulletin 757-27A0159 RB, Revision 1, dated April 29, 2020, for the actions required by this paragraph.

Note 1 to paragraph (g): Guidance for accomplishing the actions required by this AD can be found in Boeing Alert Service Bulletin 757-27A0159, dated March 29, 2019, which is referred to in Boeing Alert Requirements Bulletin 757-27A0159 RB, dated March 29, 2019.

Note 2 to paragraph (g): Guidance for accomplishing the actions required by this AD can also be found in Boeing Alert Service Bulletin 757-27A0159, Revision 1, dated April 29, 2020, which is referred to in Boeing Alert Requirements Bulletin 757-27A0159 RB, Revision 1, dated April 29, 2020.

(h) Retained Exception, With Revised Service Information

This paragraph restates the requirements of paragraph (h)(2) of AD 2019-12-13, with revised service information. Where Boeing Alert Requirements Bulletin 757-27A0159 RB, dated March 29, 2019, and Boeing Alert Requirements Bulletin 757-27A0159 RB, Revision 1, dated April 29, 2020, specify contacting Boeing for repair instructions: This AD requires doing the repair using a method approved in accordance with the procedures specified in paragraph (k) of this AD.

(i) New Required Actions

Except as specified by paragraph (j) of this AD: At the applicable times specified in the “Compliance” paragraph of Boeing Alert Requirements Bulletin 757-27A0160 RB, dated April 1, 2024, do all applicable actions identified in, and in accordance with, the Accomplishment Instructions of Boeing Alert Requirements Bulletin 757-27A0160 RB, dated April 1, 2024. Doing the modification required in this paragraph terminates the inspections required by paragraph (g) of this AD.

Note 3 to paragraph (i): Guidance for accomplishing the actions required by this AD can be found in Boeing Alert Service Bulletin 757-27A0160, dated April 1, 2024, which is referred to in Boeing Alert Requirements Bulletin 757-27A0160 RB, dated April 1, 2024.

(j) Exceptions to Requirements Bulletin Specifications

(1) Where the Compliance Time columns of the tables in the “Compliance” paragraph of Boeing Alert Requirements Bulletin 757-27A0160 RB, dated April 1, 2024, refer to the original issue date of Requirements Bulletin 757-27A0160 RB, this AD requires using the effective date of this AD.

(2) Where Boeing Alert Requirements Bulletin 757-27A0160 RB, dated April 1, 2024, specifies contacting Boeing for repair instructions: This AD requires doing the repair using a method approved in accordance with the procedures specified in paragraph (k) of this AD.

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2019-12-13 are approved as AMOCs for the corresponding provisions of paragraph (g) of this AD.

(l) Related Information

(1) For more information about this AD, contact Katherine Venegas, Aviation Safety Engineer, FAA, 2200 South 216th St., Des Moines, WA 98198; phone: 562-627-5353; email: katherine.venegas@faa.gov.

(2) Material identified in this AD that is not incorporated by reference is available at the address specified in paragraph (m)(5) of this AD.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on [DATE 35 DAYS AFTER PUBLICATION OF THE FINAL RULE].

(i) Boeing Alert Requirements Bulletin 757-27A0159 RB, Revision 1, dated April 29, 2020.

(ii) Boeing Alert Requirements Bulletin 757-27A0160 RB, dated March 29, 2024.

(4) The following material was approved for IBR on July 12, 2019 (84 FR 30577, June 27, 2019).

(i) Boeing Alert Requirements Bulletin 757-27A0159 RB, dated March 29, 2019.

(ii) [Reserved]

(5) For the material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations, or email fr.inspection@nara.gov.

Issued on February 3, 2025.
Peter A. White,
Deputy Director, Integrated Certificate Management Division, Aircraft Certification Service.

[FR Doc. 2025-02316 Filed 2-11-25; 8:45 am]

BILLING CODE 4910-13-P